UNITED STATES INSTITUTE OF PEACE

Announcement of Senior Fellowship Competition

AGENCY: United States Institute of Peace.

ACTION: Notice.

SUMMARY: The agency is soliciting applications for Senior Fellowships from scholars or practitioners who conduct research related to the peaceful resolution of international conflict. Fellowship entails residence at agency in Washington, DC, for up to ten months beginning October 1, 2002.

DATES: Application Material Available Upon Request; Receipt Date for Return of Applications: September 17, 2001; Notification of Awards: April, 2002.

ADDRESSES: For application materials, visit the Institute's website at www.usip.org, or contact: United States Institute of Peace, Jennings Randolph Program, 1200 17th Street, NW., Suite 200, Washington, DC 20036-3011, (202) 429-6063 (fax), (202) 457-1719 (TTY), jrprogram@usip.org (email).

FOR FURTHER INFORMATION CONTACT: Jennings Randolph Program, Phone (202) 429-3886.

Dated: June 18, 2001.
Bernice J. Carney,
Director, Office of Administration.

[FR Doc. 01-16277 Filed 6-27-01; 8:45 am]

BILLING CODE 6820-AR-M